DEPARTMENT OF DEFENSE

Office of the Secretary

[Transmittal No. 20-64]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 20-64 with attached Policy Justification and Sensitivity of Technology.

Dated: July 25, 2023.
Aaron T. Siegel,
Alternate OSD Federal Register Liaison Officer, Department of Defense.

BILLING CODE 5001-06-P

BILLING CODE 5001-06-C

Transmittal No. 20-64

Notice of Proposed Issuance of Letter of Offer Pursuant to Section 36(b)(1) of the Arms Export Control Act, as amended

(i) Prospective Purchaser: Government of Egypt

(ii) Total Estimated Value:

Major Defense Equipment * | $ 0 million
Other | $355 million
TOTAL | $355 million

Funding Source: Foreign Military Financing (FMF)

(iii) Description and Quantity or Quantities of Articles or Services under Consideration for Purchase:

Major Defense Equipment (MDE):

None

Non-MDE:

Three (3) SPS-48 Land Based Radar (LBR), spares, motor generators, repeaters, radomes, technical manuals, site surveys, installation, calibrations, testing, operator training, and maintenance training associated with the SPS-48 LBR; obsolescence replacements of processor, track management system, communication equipment, uninterrupted power supply (UPS), generators, and/or Transmitter Control Unit in fielded SPS-48 LBR systems; updated built-in-testing (BIT) and overhaul of fielded SPS-48 LBR antenna systems; and other related elements of logistical and program support.

(iv) Military Department: Navy (EG-P-LGS)

(v) Prior Related Cases, if any: EG-P-LDO, EG-P-GJC, EG-P-LFS, EG-P-LFE, EG-P-GHM, EG-P-JNZ, EG-P-KCC, EG-P-KCD, EG-P-LEU, EG-P-GKD, EG-P-MBZ

(vi) Sales Commission, Fee, etc., Paid, Offered, or Agreed to be Paid: None

(vii) Sensitivity of Technology Contained in the Defense Article or Defense Services Proposed to be Sold: See Attached Annex

(viii) Date Report Delivered to Congress: January 25, 2022

* As defined in Section 47(6) of the Arms Export Control Act.

POLICY JUSTIFICATION

Egypt—Air Defense Radar Systems

The Government of Egypt has requested to buy three (3) SPS-48 Land Based Radar (LBR), spares, motor generators, repeaters, radomes, technical manuals, site surveys, installation, calibrations, testing, operator training, and maintenance training associated with the SPS-48 LBR; obsolescence replacements of processor, track management system, communication equipment, uninterrupted power supply (UPS), generators, and/or Transmitter Control Unit in fielded SPS-48 LBR systems; updated built-in-testing (BIT) and overhaul of fielded SPS-48 LBR antenna systems; and other related elements of logistical and program support. The estimated total program cost is $355 million.

This proposed sale will support the foreign policy and national security of the United States by helping to improve the security of a Major Non-NATO Ally country that continues to be an important strategic partner in the Middle East.

The proposed sale will improve Egypt's capability to meet current and future threats by improving the detection of various air threats. Egypt will have no difficulty absorbing this equipment into its armed forces since Egypt already operates previously procured SPS-48 Land Based Radars.

The proposed sale of this equipment and support will not alter the basic military balance in the region.

The principal contractor will be L3 Harris Surveillance Systems, Van Nuys, CA. There are no known offset agreements proposed in connection with this potential sale.

Implementation of this proposed sale will not require the assignment of any additional U.S. Government or contractor representatives to Egypt with the exception of periodic trips that are 1-5 weeks in duration to participate in program reviews, inspect installations, verify testing, and buy-off equipment.

There will be no adverse impact on U.S. defense readiness as a result of this proposed sale.

Transmittal No. 20-64

Notice of Proposed Issuance of Letter of Offer Pursuant to Section 36(b)(1) of the Arms Export Control Act

Annex

Item No. vii

(vii) Sensitivity of Technology:

1. The SPS-48 Land Based Radar (LBR) is a long range three-dimensional search radar. The passive antenna does not contain active electronic components that are subject to failure. The sheltered equipment is compact and cooled by a closed-loop water system. Replaceable units and assemblies are mounted on cold plates and can be removed without breaking into the water system. External air is not drawn into water-cooled equipment cabinets; therefore, corrosion caused by humidity and air pollutants is eliminated.

2. The highest level of classification of defense articles, components, and services included in this potential sale is UNCLASSIFIED.

3. If a technologically advanced adversary were to obtain knowledge of the specific hardware and software elements, the information could be used to develop countermeasures that might reduce weapon system effectiveness or be used in the development of a system with similar or advanced capabilities.

4. A determination has been made that Government of Egypt can provide substantially the same degree of protection for the sensitive technology being released as the U.S. Government. This sale is necessary in furtherance of the U.S. foreign policy and national security objectives outlined in the Policy Justification.

5. All defense articles and services listed in this transmittal have been authorized for release and export to the Government of Egypt.

[FR Doc. 2023-16075 Filed 7-27-23; 8:45 am]

BILLING CODE 5001-06-P